DEPARTMENT OF THE INTERIOR

National Park Service

[NPS-AKRO-ANIA-DENA-CAKR-LACL-KOVA-WRST-GAAR-30449; PPAKAKROR4; PPMPRLE1Y.LS0000]

National Park Service Alaska Region Subsistence Resource Commission Program; Notice of Public Meetings

AGENCY: National Park Service, Interior.

ACTION: Meeting notice.

SUMMARY: The National Park Service (NPS) is hereby giving notice that the Aniakchak National Monument Subsistence Resource Commission (SRC), the Denali National Park SRC, the Cape Krusenstern National Monument SRC, the Lake Clark National Park SRC, the Kobuk Valley National Park SRC, the Wrangell-St. Elias National Park SRC, and the Gates of the Arctic National Park SRC will meet as indicated below.

DATES: The Aniakchak National Monument SRC will meet on Tuesday, September 29, 2020, from 1:00 p.m. to 5:00 p.m. or until business is completed. The alternate meeting date is Tuesday, October 27, 2020, from 5:00 p.m. to 8:00 p.m. or until business is completed. Teleconference participants must call the NPS office at (907) 246-2154 prior to the meeting to receive teleconference passcode information. For more detailed information regarding these meetings, or if you are interested in applying for SRC membership, contact Designated Federal Officer Mark Sturm, Superintendent, at (907) 246-2120, or via email at mark_sturm@nps.gov, or Linda Chisholm, Subsistence Coordinator, at (907) 246-2154 or via email at linda_chisholm@nps.gov, or Joshua Ream, Federal Advisory Committee Group Federal Official, at (907) 644-3596 or via email at joshua_ream@nps.gov.

The Denali National Park SRC will meet via teleconference on Tuesday, August 25, 2020, from 9:00 a.m. to 12:00 p.m. or until business is completed. The alternate meeting date is Thursday, August 27, 2020, from 9:00 a.m. to 12:00 p.m. or until business is completed. Teleconference participants must call the NPS office at (907) 644-3604 prior to the meeting to receive teleconference passcode information. For more detailed information regarding these meetings, or if you are interested in applying for SRC membership, contact Designated Federal Officer Denice Swanke, Superintendent, at (907) 683-9627, or via email at denice_swanke@nps.gov or Amy Craver, Subsistence Coordinator, at (907) 644-3604 or via email at amy_craver@nps.gov or Joshua Ream, Federal Advisory Committee Group Federal Official, at (907) 644-3596 or via email at joshua_ream@nps.gov.

The Cape Krusenstern National Monument SRC will meet on Tuesday, November 3, 2020, from 1:00 p.m. to 5:00 p.m. or until business is completed and again on Wednesday, November 4, 2020, from 9:00 a.m. to 12:00 p.m. The alternate meeting dates are Monday, November 9, 2020, from 1:00 p.m. to 5:00 p.m., and Tuesday, November 10, 2020, from 9:00 a.m. to 12:00 p.m. at the same location. Teleconference participants must call the NPS office at (907) 442-8342 prior to the meeting to receive teleconference passcode information. For more detailed information regarding this meeting or if you are interested in applying for SRC membership, contact Designated Federal Officer Maija Lukin, Superintendent, at (907) 442-8301, or via email at maija_lukin@nps.gov or Hannah Atkinson, Cultural Resource Specialist, at (907) 442-8342 or via email at hannah_atkinson@nps.gov or Joshua Ream, Federal Advisory Committee Group Federal Official, at (907) 644-3596 or via email at joshua_ream@nps.gov.

The Lake Clark National Park SRC will meet on Wednesday, September 30, 2020, from 1:00 p.m. to 4:30 p.m. or until business is completed. The alternate meeting date is Wednesday, October 7, 2020, at the alternate location. Teleconference participants must call the NPS office at (907) 644-3648 prior to the meeting to receive teleconference passcode information. For more detailed information regarding this meeting or if you are interested in applying for SRC membership, contact Designated Federal Officer Susanne Green, Superintendent, at (907) 644-3627, or via email at susanne_green@nps.gov or Liza Rupp, Subsistence Manager, at (907) 644-3648 or via at email elizabeth_rupp@nps.gov or Joshua Ream, Federal Advisory Committee Group Federal Official, at (907) 644-3596 or via email at joshua_ream@nps.gov.

The Kobuk Valley National Park SRC will meet on Thursday, November 5, 2020, from 1:00 p.m. to 5:00 p.m. or until business is completed and again on Friday, November 6, 2020, from 9:00 a.m. to 12:00 p.m. The alternate meeting dates are Tuesday, November 10, 2020, from 1:00 p.m. to 5:00 p.m., and Wednesday, November 11, 2020, from 9:00 a.m. to 12:00 p.m. at the same location. Teleconference participants must call the NPS office at (907) 442-8342 prior to the meeting to receive teleconference passcode information. For more detailed information regarding this meeting or if you are interested in applying for SRC membership, contact Designated Federal Officer Maija Lukin, Superintendent, at (907) 442-8301, or via email at maija_lukin@nps.gov or Hannah Atkinson, Cultural Resource Specialist, at (907) 442-8342 or via email at hannah_atkinson@nps.gov or Joshua Ream, Federal Advisory Committee Group Federal Official, at (907) 644-3596 or via email at joshua_ream@nps.gov.

The Wrangell-St. Elias National Park SRC will meet on Thursday, September 24, 2020, from 9:00 a.m. to 5:00 p.m., and again on Friday, September 25, 2020, from 9:00 a.m. to 5:00 p.m. or until business is completed. If business is completed on September 24, 2020, the meeting will adjourn, and no meeting will take place on September 25, 2020. The alternate meeting dates are Monday, October 5, 2020, from 9:00 a.m. to 5:00 p.m., and Tuesday, October 6, 2020, from 9:00 a.m. to 5:00 p.m. or until business is completed at the same location. Teleconference access to the meeting may be requested by calling the NPS office at (907) 822-7236 at least two business days prior to the meeting to receive teleconference passcode information. For more detailed information regarding these meetings, or if you are interested in applying for SRC membership, contact Designated Federal Officer Ben Bobowski, Superintendent, (907) 822-5234, or via email at ben_bobowski@nps.gov or Barbara Cellarius, Subsistence Coordinator, at (907) 822-7236 or via email at barbara_cellarius@nps.gov or Joshua Ream, Federal Advisory Committee Group Federal Official, at (907) 644-3596 or via email at joshua_ream@nps.gov.

The Gates of the Arctic National Park SRC will meet on Thursday, November 12, 2020, and Friday, November 13, 2020, from 8:30 a.m. to 5:00 p.m. both days or until business is complete The alternate meeting dates are Wednesday, November 18, 2020, from 8:30 a.m. to 5:00 p.m., and Thursday, November 19, 2020, from 8:30 a.m. to 5:00 p.m. or until business is completed at the same location. Teleconference participants must call the NPS office at (907) 455-0639 prior to the meeting to receive teleconference passcode information. For more detailed information regarding this meeting or if you are interested in applying for SRC membership, contact Designated Federal Officer Greg Dudgeon, Superintendent, at (907) 457-5752, or via email at greg_dudgeon@nps.gov or Marcy Okada, Subsistence Coordinator, at (907) 455-0639 or via email at marcy_okada@nps.gov or Joshua Ream, Federal Advisory Committee Group Federal Official, at (907) 644-3596 or via email at joshua_ream@nps.gov.

ADDRESSES: The Aniakchak National Monument SRC will meet at the Katmai National Park and Preserve headquarters, 1000 Silver St., Building 603, King Salmon, AK 99613. The alternate meeting location for the Aniakchak National Monument SRC will be the Bristol Bay Native Association office, 1500 Kanakanak Road, Dillingham, AK 99576. The Denali National Park SRC will meet via teleconference. The Cape Krusenstern National Monument SRC will meet in the conference room at the Northwest Arctic Heritage Center, 171 3rd Avenue, Kotzebue, AK 99752. The Lake Clark National Park SRC will meet at the Nondalton Community Center, 101 Main Street, Nondalton, AK 99640. The alternate location for the Lake Clark National Park SRC will be the Iliamna Green Building, Iliamna Village Road, Iliamna, AK, 99606. The Kobuk Valley National Park SRC will meet in the conference room at the Northwest Arctic Heritage Center, 171 3rd Avenue, Kotzebue, AK 99752. The Wrangell-St. Elias National Park SRC will meet at the NPS office in the Copper Center Visitor Center Complex, Wrangell-St. Elias National Park and Preserve, Mile 106.8 Richardson Highway, Copper Center, AK 99573. The Gates of the Arctic National Park SRC will meet at Sophie Station—Zach's Boardroom, 1717 University Ave. South, Fairbanks, AK 99709.

SUPPLEMENTARY INFORMATION: The NPS is holding meetings pursuant to the Federal Advisory Committee Act (5 U.S.C. Appendix 1-16). The NPS SRC program is authorized under title VIII, section 808 of the Alaska National Interest Lands Conservation Act (16 U.S.C. 3118).

SRC meetings are open to the public and will have time allocated for public testimony each day the SRC meets. The public is welcome to present written or oral comments to the SRC. SRC meetings will be recorded and meeting minutes will be available approximately six weeks after the meeting.

Purpose of the Meeting: The agenda may change to accommodate SRC business. The proposed meeting agenda for each meeting includes the following:

1. Call to Order—Confirm Quorum

2. Welcome and Introduction

3. Review and Adoption of Agenda

4. Approval of Minutes

5. Superintendent's Welcome and Review of the SRC Purpose

6. SRC Membership Status

7. SRC Chair and Members' Reports

8. Superintendent's Report

9. Old Business

10. New Business

11. Federal Subsistence Board Update

12. Alaska Boards of Fish and Game Update

13. National Park Service Staff Reports

a. Superintendent/Ranger Reports

b. Resource Manager's Report

c. Subsistence Manager's Report

14. Public and Other Agency Comments

15. Work Session

16. Set Tentative Date and Location for Next SRC Meeting

17. Adjourn Meeting

SRC meeting location and date may change based on inclement weather or exceptional circumstances, including public health advisories or mandates. If the meeting date and location are changed, the Superintendent will issue a press release and use local newspapers and/or radio stations to announce the rescheduled meeting.

Public Disclosure of Comments: Before including your address, phone number, email address, or other personal identifying information in your comment, you should be aware that your entire comment−including your personal identifying information−may be made publicly available at any time. While you can ask us in your comment to withhold your personal identifying information from public review, we cannot guarantee that we will be able to do so.

(Authority: 5 U.S.C. Appendix 2)

Alma Ripps,
Chief, Office of Policy.

[FR Doc. 2020-17219 Filed 8-6-20; 8:45 am]

BILLING CODE 4312-52-P